DEPARTMENT OF AGRICULTURE

Rural Telephone Bank

Sunshine Act; Meetings

ACTION: Staff Briefing for the Board of Directors.

TIME AND DATE: 10 a.m., Wednesday, January 26, 2005.

PLACE: Conference Room 104-A, Jamie L. Whitten Federal Building, U.S. Department of Agriculture, 12th & Jefferson Drive, SW., Washington, DC.

STATUS: Open.

MATTERS TO BE DISCUSSED: 1. FY 2005 Budget.

2. Administrative and other issues.

ACTION: Board of Directors Meeting.

TIME AND DATE: 2 p.m., Wednesday, January 26, 2005.

PLACE: Conference Room 104-A, Jamie L. Whitten Federal Building, U.S. Department of Agriculture, 12th & Jefferson Drive, SW., Washington, DC.

STATUS: Open.

MATTERS TO BE CONSIDERED: The following matters have been placed on the agenda for the Board of Directors meeting:

1. Call to order.

2. Results of the 2004 election and swearing in of new directors.

3. Selection of board officers.

4. Action on Minutes of the November 5, 2004, board meeting.

5. Secretary's Report.

6. Treasurer's Report.

7. Discussion of duties and responsibilities of the board.

8. Privatization update.

9. Establish dates for 2005 board meetings.

10. Acknowledgment of service to the board.

11. Other business.

12. Governor's Remarks.

13. Adjournment.

CONTACT PERSON FOR MORE INFORMATION: Jonathan Claffey, Acting Assistant Governor, Rural Telephone Bank, (202) 720-9554.

Curtis Anderson,
Acting Governor, Rural Telephone Bank.

[FR Doc. 05-1177 Filed 1-14-05; 3:18 pm]

BILLING CODE 3410-15-P